DEPARTMENT OF COMMERCE

International Trade Administration

[A-570-803]

Heavy Forged Hand Tools, Finished or Unfinished, With or Without Handles, From the People's Republic of China: Final Results of Antidumping Duty Administrative Review of the Order on Bars and Wedges

AGENCY: Import Administration, International Trade Administration, Department of Commerce.

ACTION: Notice of final results of antidumping duty administrative review on bars/wedges and revision of country-wide cash deposit rates.

SUMMARY: On March 6, 2003, the Department of Commerce (the Department) published the preliminary results of the administrative reviews of the antidumping duty orders on heavy forged hand tools (HFHTs) from the People's Republic of China (PRC). As the Department rescinded the reviews of the orders on axes/adzes, hammers/sledges, and picks/mattocks on January 3, 2003, imports covered by these preliminary results of review comprise bars over 18 inches in length, track tools and wedges. The period of review (POR) is February 1, 2001, through January 31, 2002. Based on our analysis of the comments received, we have made changes in the margin calculation. Therefore, the final results differ from the preliminary results. The final weighted-average dumping margin for the reviewed firm is listed below in the section entitled Final Results of Review. We will instruct the Bureau of Customs and Border Protection (BCBP) to assess antidumping duties on all appropriate entries.

EFFECTIVE DATE: September 10, 2003.

FOR FURTHER INFORMATION CONTACT: Thomas Martin or Mark Manning, Office of AD/CVD Enforcement, Office 4, Group II, Import Administration, International Trade Administration, U.S. Department of Commerce, 14th Street and Constitution Avenue, NW, Washington, DC 20230; telephone (202) 482-3936 and (202) 482-5253, respectively.

SUPPLEMENTARY INFORMATION:

Background

On February 1, 2002, the Department published a notice of opportunity to request administrative reviews of the antidumping orders on HFHTs from the PRC covering the period February 1, 2001 through January 31, 2002 (67 FR 4945). On February 28, 2002, Tianjin Machinery Import & Export Corporation (TMC), Shandong Machinery Import & Export Corporation (SMC), Liaoning Machinery Import & Export Corporation (LMC), and Shandong Huarong Machinery Company (Huarong) requested administrative reviews in the above-referenced orders. Specifically, TMC requested reviews of the hammers/sledges, bars/wedges, picks/mattocks and axes/adzes orders, SMC requested reviews of the hammers/sledges, bars/wedges, and picks/mattocks orders, LMC requested a review of the bars/wedges order, and Huarong requested a review of the bars/wedges order. Based on these requests, the Department initiated administrative reviews of TMC, SMC, LMC, and Huarong under the requested orders on March 20, 2002. See Initiation of Antidumping and Countervailing Duty Administrative Reviews and Requests for Revocations in Part, 67 FR 14696 (March 27, 2002).

On May 3, 2002, LMC withdrew its request for review of the bars/wedges order. On May 10, 2002, TMC withdrew its requests for review of the hammers/sledges and picks/mattocks orders. On June 7, 2002, SMC withdrew its request for review under the picks/mattocks order. Additionally, on September 26, 2002, TMC withdrew its requests for review of the axes/adzes order and bars/wedges order, and SMC withdrew its requests for review of the bars/wedges and hammers/sledges orders. The Department rescinded these reviews on January 3, 2003. See Notice of Rescission of Antidumping Duty Administrative Review: Heavy Forged Hand Tools from the People's Republic of China: Partial Rescission of Antidumping Duty Administrative Review, 68 FR 352 (January 3, 2003). The remaining review covers bars/wedges sold by Huarong.

On March 6, 2003, the Department published the preliminary results of this administrative review. See Heavy Forged Hand Tools, Finished or Unfinished, With or Without Handles, From the People's Republic of China: Preliminary Results of Antidumping Duty Administrative Review of the Order on Bars and Wedges, 68 FR 10690 (March 6, 2003) (Preliminary Results). We invited parties to comment on the preliminary results. Both petitioner and respondent filed case briefs on April 7, 2003, and rebuttal briefs on April 14, 2003. A hearing was held pursuant to a request from the respondent on April 30, 2003.

Scope of Review

The products covered by the HFHT orders comprise the following classes or kinds of merchandise: (1) Hammers and sledges with heads over 1.5 kg (3.33 pounds) (hammers/sledges); (2) bars over 18 inches in length, track tools and wedges (bars/wedges); (3) picks and mattocks (picks/mattocks); and (4) axes, adzes and similar hewing tools (axes/adzes).

HFHTs include heads for drilling hammers, sledges, axes, mauls, picks and mattocks, which may or mat not be painted, which may or may not be finished, or which may or may not be imported with handles; assorted bar products and track tools including wrecking bars, digging bars and tampers; and steel woodsplitting wedges. HFHTs are manufactured through a hot forge operation in which steel is sheared to required length, heated to forging temperature, and formed to final shape on forging equipment using dies specific to the desired product shape and size.Depending on the product, finishing operations may include shot blasting, grinding, polishing and painting, and the insertion of handles for handled products. HFHTs are currently provided for under the following Harmonized Tariff Schedule of the United States (HTSUS) subheadings: 8205.20.60, 8205.59.30, 8201.30.00, and 8201.40.60. Specifically excluded from these investigations are hammers and sledges with heads 1.5 kg. (3.33 pounds) in weight and under, hoes and rakes, and bars 18 inches in length and under. The Max Multipurpose Tool is within the scope of the order. (See Notice of Scope Rulings, 58 FR 59991, November 12, 1993.) The HTSUS subheadings are provided for convenience and customs purposes. The written description remains dispositive.

Analysis of Comments Received

All issues raised in the case and rebuttal briefs by parties to these administrative reviews are addressed in the Issues and Decision Memorandum from Holly A Kuga, Acting Deputy Assistant Secretary, Import Administration, to James J. Jochum, Assistant Secretary for Import Administration (Decision Memorandum), dated concurrently with this notice, which is hereby adopted by this notice. A list of the issues which parties have raised and to which we have responded, all of which are in the Decision Memorandum, is attached to this notice as an appendix. Parties can find a complete discussion of all issues raised in this review and the corresponding recommendations in this public memorandum, which is on file in the Central Record Unit, room B-099 of the main Department of Commerce building. In addition, the Decision Memorandum can be accessed directly on Import Administration's Web site at http://ia.ita.doc.gov. The paper copy and the electronic version of the Decision Memorandum are identical in content.

Separate Rates Determination

As stated in the preliminary results, Huarong is entitled to a separate rate.

Changes Since the Preliminary Results

In calculating the final results, the Department has made the following changes from the Preliminary Results:

1. We have corrected a typographical error in the calculation of the surrogate value for steel billet;

2. We have clarified that the Department used an average-to-transaction methodology for calculating the weighted-average dumping margin;

3. We have correctly re-labeled the CONNUMs of Huarong's indirect sales, thereby allowing the direct and indirect sales databases to be correctly merged;

4. We have assigned a separate observation number to all of Huarong's indirect sales so that observation numbers are not duplicated in the merged database; and

5. We have removed the deduction for additional port charges from our calculation of the net U.S. price.

Final Results of Review

We determine that the following weighted-average percentage margin exists for the period February 1, 2001, through January 31, 2002:

Manufacturer/exporter | Margin (percent)
Shandong Huarong Machinery Company
Bars/Wedges --- 2/1/01-1/31/02 | 30.02

Assessment Rates

The Department will determine, and the BCBP shall assess, antidumping duties on all appropriate entries. In accordance with 19 CFR 351.212(b)(1), we have calculated importer-specific assessment rates. Where the importer-specific assessment rate is above de minimis, we will instruct the BCBP to assess antidumping duties on that importer's entries of subject merchandise. Since the entered value of the merchandise was not reported to us, we have divided, where applicable, the total dumping margins (calculated as the difference between normal value and export price) for each importer by the total number of units sold to the importer. We will direct the BCBP to assess the resulting unit dollar amount against each unit of subject merchandise entered by the importer during the POR. The Department will issue appropriate assessment instructions directly to the BCBP within 15 days of publication of these amended final results of review.

Cash Deposit Requirements

The following deposit requirements will be effective upon publication of this notice of final results of administrative review for all shipments of bars and wedges from the PRC entered, or withdrawn from warehouse, for consumption on or after the date of publication of this notice, as provided by section 751(a)(1) of the Tariff Act of 1930, as amended (the Act): (1) the cash deposit rates for the reviewed companies will be the rates shown above except that, for firms whose weighted-average margins are less than 0.5 percent, and therefore, de minimis, the Department shall require a zero deposit of estimated antidumping duties; (2) for previously reviewed or investigated companies with a separate rate not listed above, the cash deposit rates will continue to be the company-specific rates published for the most recent period; (3) for all other PRC exporters, the cash deposit rates will be the PRC-wide rates; (4) for all non-PRC exporters of the subject merchandise, the cash deposit rate will be the rate applicable to the PRC exporter that supplied that exporter.

The PRC-Wide Cash Deposit Rates

The current PRC-wide cash deposit rates for Axes/Adzes and Bars/Wedges have been revised pursuant to the final results of a redetermination for the eighth administrative review of this proceeding, which can be accessed directly on Import Administration's Web site at http://www.ia.ita.doc.gov/remands/01-88.htm. The current PRC-wide cash deposit rates are 55.74 percent for Axes/Adzes, 139.31 percent for Bars/Wedges, 27.71 percent for Hammers/Sledges and 98.77 percent for Picks/Mattocks. These deposit requirements shall remain in effect until publication of the final results of the next administrative reviews.

Notification

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as a reminder to parties subject to administrative protective order (APO) of their responsibility concerning the disposition of proprietary information disclosed under APO in accordance with 19 CFR 351.305. Timely written notification of return/destruction of APO materials or conversion to judicial protective order is hereby requested. Failure to comply with the regulations and the terms of an APO is a sanctionable violation.

These final results of administrative review are issued and published in accordance with sections 751(a)(1) and 777(i)(1) of the Act (19 U.S.C. 1675(a)(1) and 19 U.S.C. 1677f(i)(1)).

Dated: September 2, 2003.
James J. Jochum,
Assistant Secretary for Import Administration.

Appendix Issues in Decision Memorandum

Part I- Surrogate Country Issues

Comment 1: India as a surrogate country

Comment 2: Exclusion of Indian import prices that may be subsidized

Part II - General Surrogate Value Issues

Comment 3: The surrogate value calculation for steel

Comment 4: The surrogate value for steel billet

Comment 5: The surrogate brokerage and handling value

Comment 6: The surrogate value for steel scrap sold by Huarong

Comment 7: The surrogate value for steel pallets

Part III- Other Comments

Comment 8: Huarong's control numbers

Comment 9: Merging Huarong's direct and indirect sales into a single database

Comment 10: Huarong's date of sale methodology, and the use of entry date as the date of sale.

Comment 11: Costs for agency sales and net U.S. Price

Comment 12: Movement expenses

Comment 13: Clerical error in weight-averaging of U.S. sales

Comment 14: Offset adjustment for Huarong's steel scrap

Comment 15: The application of the Sigma rule to Huarong's inland freight for the steel factor

Comment 16: Separate port charges not substantiated in the record

[FR Doc. 03-23064 Filed 9-9-03; 8:45 am]

BILLING CODE 3510-DS-S